DEPARTMENT OF ENERGY

Federal Energy Regulatory Commission

[Docket Nos. EC06-54-000, et al.]

Duke Energy Marketing America, LLC, et al.; Electric Rate and Corporate Filings

January 10, 2005.

The following filings have been made with the Commission. The filings are listed in ascending order within each docket classification.

1. Duke Energy Marketing America, LLC and J. Aron & Company

[Docket No. EC06-54-000]

Take notice that on December 28, 2005, Duke Energy Marketing America, LLC (DEMA) and J. Aron & Company (J. Aron) (collectively, Applicants) filed with the Commission an application pursuant to section 203 of the Federal Power Act for authorization of the transfer by DEMA of a wholesale power transaction to J. Aron. Applicants have requested privileged treatment for commercially sensitive information contained in the application.

Comment Date: 5 p.m. Eastern Time on January 23, 2006.

2. Union Electric Company d/b/a AmerenUE and NRG Audrain Generating, LLC

[Docket No. EC06-55-000]

Take notice that on December 28, 2005, Union Electric Company d/b/a AmerenUE, and NRG Audrain Generating, LLC jointly submitted an application pursuant to Section 203 of the Federal Power Act and Part 33 the sale by NRG Audrain to AmerenUE of NRG Audrain's interest in a 640 MW simple-cycle, natural gas-fired power generation facility and associated interconnection facilities located in Audrain County, Missouri.

Comment Date: January 30, 2006.

3. Union Electric Company and Aquila Piatt County Power, L.L.C.; MEP Flora Power, LLC; Aquila Merchant Services, Inc.

[Docket Nos. EC06-56-000; ER06-410-000]

Take notice that on December 28, 2005, Union Electric Company, MEP Flora Power, LLC (MEP Flora), Aquila Piatt County Power, L.L.C. (Aquila Piatt County and together with MEP Flora, Sellers), and Aquila Merchant Services, Inc. (Aquila Merchant Services) (collectively, Applicants) jointly submitted an application (Application) pursuant to sections 203 and 205 of the Federal Power Act and Parts 33 and 35 of the regulations of the Commission for all necessary Commission authorizations and approvals for: (1) the sale of Sellers' interest in two generating facilities located in southern Illinois, the Raccoon Creek and Goose Creek generating facilities, to AmerenUE; (2) approving the assignment to AmerenUE of Aquila Merchant Services' existing Master Purchase and Sale Agreement dated December 17, 2004 (the PPA) with Illinois Power Company d/b/a AmerenIP (AmerenIP); and (3) accepting the PPA and authorizing sales by AmerenUE to AmerenIP pursuant to the PPA.

Comment Date: January 23, 2006.

4. Blue Canyon Windpower II LLC; Flat Rock Windpower LLC

[Docket No. EC06-57-000]

Take notice that on December 30, 2005, Blue Canyon Windpower II LLC (Blue Canyon II) and Flat Rock Windpower LLC (Flat Rock (collectively, Applicants) submitted an application pursuant to section 203 of the Federal Power Act for authorization for the disposition of jurisdictional facilities related to the internal corporate reorganization of Applicants' upstream ownership. Blue Canyon II is an exempt wholesale generator that is constructing and will own and operate a 151 MW wind farm located in southwestern Oklahoma. Flat Rock is an exempt wholesale generator that is constructing and will own and operate a 231 MW wind farm located in Lewis County, New York.

Comment Date: 5 p.m. Eastern Time on January 23, 2006.

5. Western Kentucky Energy Corp.; LG&E Energy Marketing Inc.

[Docket No. EC06-58-000]

Take notice that on December 30, 2005, Western Kentucky Energy Corp. (WKEC) and LG&E Energy Marketing Inc. (LEM) (collectively, the Applicants) tendered for filing pursuant to section 203 of the Federal Power Act, for authorization of a disposition of jurisdictional facilities in connection with an intra-corporate consolidation of various contracts, rights and obligations. Applicants state that the proposed transactions are intended to consolidate in one entity, WKEC, to the maximum extent possible, the operation and maintenance of, and sale of power generated by, certain generating plants located in Western Kentucky. Applicants request flexibility with respect to how the transaction will be consummated.

Comment Date: 5 p.m. Eastern Time on January 23, 2006.

6. PacifiCorp; TransAlta Centralia Generation LLC

[Docket No. EC06-59-000]

Take notice that on January 5, 2006, PacifiCorp and TransAlta Centralia Generation LLC (collectively, Applicants) pursuant to section 203 of the Federal Power Act submit a joint application for authorization of a disposition of jurisdictional facilities whereby PacifiCorp will sell and TransAlta Centralia Generation LLC will acquire a 3-mile unidirectional 230 kV transmission line and related facilities extending from and including the tap and disconnecting switches near Tower No. 47 of BPA's Chehalis-Covington Line to the dead-end structures at the Generating Plant, and all associated easements and rights-of-way located near Centralia, Washington.

Comment Date: 5 p.m. Eastern Time on January 26, 2006.

7. United States Department of Energy; Western Area Power Administration

[Docket No. EF06-5111-000]

Take notice that on December 27, 2005, the Deputy Secretary of the Department of Energy, confirmed and approved Rate Order No. WAPA-124 and Rate Schedules CAP-FT2, CAP NFT2, and CAP-NITS2 for the Central Arizona Project transmission services. Rate Schedules CAP-FT2, CAP-NFT2, and CAP-NITS2 will be placed into effect on an interim basis effective January 1, 2006. These Rate Schedule will be submitted for conformation and approval on a final basis effective January 1, 2006, and ending December 31, 2010.

Comment Date: 5 p.m. Eastern Time on January 20, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-496 Filed 1-18-06; 8:45 am]

BILLING CODE 6717-01-P